DEPARTMENT OF THE INTERIOR

Bureau of Land Management

[NV-040-1430-ET-007F; 4-08807]

Notice of Public Meetings; Notice of Intent to Amend the Caliente Management Framework Plan, Schell Management Framework Plan, Tonopah Resource Management Plan, and the Las Vegas Resource Management Plan; Nevada

AGENCY: Bureau of Land Management, Interior.

ACTION: Notice.

SUMMARY: The Bureau of Land Management (BLM) has received an application from the Department of Energy (DOE) to withdraw certain public lands from surface entry and mining for a period of 20 years. The purpose of the withdrawal is to evaluate the lands for the potential construction, operation, and maintenance of a branch rail line (Caliente Rail Corridor) for transportation of spent nuclear fuel and high-level radioactive waste to a geologic repository at Yucca Mountain. Because the proposed withdrawal exceeds 5,000 acres, at least one public meeting is required. The BLM may need to amend four land use plans in order to address the proposed construction, operation, and maintenance of a branch rail line to support the DOE project.

As an alternative to the issuance of a withdrawal under Section 204 of the Federal Land Policy and Management Act of 1976, the BLM could potentially issue a linear right-of-way under Title V of the Federal Land Policy and Management Act.

This notice announces that the BLM will hold two scoping meetings on the proposed withdrawal and possible land use plan amendments in addition to the five meetings identified by DOE in its Notice of Intent (69 FR 18565-18569 and 69 FR 22496). The locations of all seven meetings are referenced in this notice.

DATES: Those who have comments on the proposed withdrawal and possible amendments to the land use plans must respond in writing no later than June 30, 2004. Comments received after June 30, 2004, will be considered to the extent practicable. The BLM will hold public scoping meetings on the proposed withdrawal and possible land use plan amendments at the dates and locations listed below in the SUPPLEMENTARY INFORMATION section.

ADDRESSES: You may send comments on issues regarding the proposed withdrawal and possible land use plan amendments and planning criteria to Dan Netcher, Ely Field Office, BLM, HC33 Box 33500, Ely, Nevada 89301-9408.

FOR FURTHER INFORMATION CONTACT: Dan Netcher, Ely Field Office, BLM, HC33 Box 33500, Ely, Nevada 89301-9408, 775-289-1872.

SUPPLEMENTARY INFORMATION: Public scoping meetings for the DOE Rail Alignment EIS, proposed withdrawal, and BLM Land Use Plan amendments in June are shown below.

Meeting date | Location | Time
June 22, 2004 | Tonopah Convention Center, 301 W. Brougher, Tonopah, NV | 1 p.m. to 3 p.m., 6 p.m. to 8 p.m.
June 23, 2004 | Lincoln County Court House, 1 North Main, Pioche, NV | 1 p.m. to 3 p.m., 6 p.m. to 8 p.m.

The DOE sponsored five public meetings in Nevada at which BLM representatives were present. Those meetings were in Armagosa Valley on May 3, in Goldfield on May 4, in Caliente on May 5, in Reno on May 12, and in Las Vegas on May 17. All comments received at the DOE meetings will be considered along with those provided at the BLM scoping meetings. If you have already attended one of these meetings, there is no need to attend a subsequent meeting, unless you desire to provide additional comments. Persons attending the meetings in Tonopah or Pioche may choose to attend either the afternoon or evening sessions.

The DOE has filed an application (NVN 77880) to withdraw a one-mile wide corridor which contains 308,600 acres in Esmeralda, Nye, and Lincoln Counties. A notice of proposed withdrawal was published in the Federal Register (68 FR 74965-74968, December 29, 2003). This withdrawal approximates the land encompassed by the Caliente rail corridor as described in the DOE's Final Environmental Impact Statement (EIS) for a Geologic Repository for the Disposal of Spent Nuclear Fuel and High-Level Radioactive Waste at Yucca Mountain, Nye County, Nevada, February 2002. The purpose of the withdrawal is to evaluate the land for the potential construction and operation of a branch rail line for the transportation of spent nuclear fuel and high-level radioactive waste.

The DOE issued a Notice of Intent to Prepare an EIS for the Alignment, Construction, and Operation of a Rail Line to a Geologic Repository at Yucca Mountain, Nye County, Nevada (69 FR 18565-18569, April 8, 2004) announcing public scoping meetings at the times and locations referenced in this notice. The BLM is a cooperating agency in the EIS.

The BLM may need to amend the Caliente Management Framework Plan, Schell Management Framework Plan, Tonopah Resource Management Plan, and the Las Vegas Resource Management Plan to address the proposed construction, operation, and maintenance of a branch rail line. All land use decisions associated with the potential construction, operation, and maintenance of a rail line will be developed through the land use planning amendment process. In addition to the proposed withdrawal, this notice adds land use planning as an issue to the scoping being conducted by the DOE and the BLM.

Additional options for the rail corridor could include the issuance of a Title V right-of-way for the operation of the rail line. Under this alternative the BLM would issue a right-of-way for the development and operation of the rail line.

Public Involvement

Release of the draft amendments to the Caliente Management Framework Plan, Schell Management Framework Plan, Tonopah Resource Management Plan and the Las Vegas Resource Management Plan will be announced in the local news media, as well as the Federal Register, as these dates are established.

(Authority: 43 CFR 1610.2(c); 43 CFR 2310.3-1(c)(2))
Dated: May 4, 2004.
Amy L. Lueders,
Associate State Director, Nevada.

[FR Doc. 04-11569 Filed 5-20-04; 8:45 am]

BILLING CODE 4310-HC-P